OFFICE OF PERSONNEL MANAGEMENT

Federal Salary Council

AGENCY: Office of Personnel Management.

ACTION: Notice of Meeting.

SUMMARY: The Federal Salary Council will meet at the time and place shown below. The Council is an advisory body composed of experts in the fields of labor relations or pay policy and representatives of Federal employee organizations. The Council will discuss issues related to locality-based comparability payments authorized by the Federal Employees Pay Comparability Act of 1990 (FEPCA) for General Schedule employees. The meeting is open to the public.

DATE: October 5, 2000, at 9:30 a.m.

ADDRESSES: Office of Personnel Management, 1900 E Street NW., Pendleton Room (Rm.5305) Washington, DC.

FOR FURTHER INFORMATION CONTACT: Jerome D. Mikowicz, Chief, Salary and Wage Systems Division, Office of Personnel Management, 1900 E Street NW., Room 7H31, Washington, DC 20415-8200. Phone: (202) 606-2838; FAX (202) 606-0824; or email at payleave@opm.gov.

For the President's Pay Agent.
Janice R. Lachance,
Director.

[FR Doc. 00-24638 Filed 9-25-00; 8:45 am]

BILLING CODE 6425-01-U